DEPARTMENT OF THE INTERIOR

Fish and Wildlife Service

[FWS-R8-ES-2011-N139; 80221-1113-0000-F5]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before August 8, 2011.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-43668A

Applicant: Gerald T. Braden, Angelus Oaks, California.

The applicant requests a permit to take (capture, handle, and release) the Stephens' kangaroo rat (Dipodomys stephensi) and San Bernardino kangaroo rat (Dipodomys merriami parvus); take (harass by survey, capture, band, color band, release and monitor nests) the southwestern willow flycatcher (Empidonax traillii extimus) and least Bell's vireo (Vireo bellii pusillus); and take (harass by survey) the light-footed clapper rail (Rallus longirostris levipes) and Yuma clapper rail (Rallus longirostris yumanensis) in conjunction with surveys and population monitoring activities throughout the range of each species in California and Nevada for the purpose of enhancing the species' survival.

Permit No. TE-174305

Applicant: Department of Air Force, Vandenberg Air Force Base, California.

The applicant requests an amendment to a permit to take (locate and monitor nests) the California least tern (Sterna antillarum browni) in conjunction with population monitoring activities in Vandenberg Air Force Base, California, for the purpose of enhancing the species' survival.

Permit No. TE-039305

Applicant: Michael W. Kline, San Diego, California.

The applicant requests a permit to take (harass by survey) the southwestern willow flycatcher (Empidonax traillii extimus) in conjunction with surveys throughout the range of the species in San Diego and Imperial Counties, California, for the purpose of enhancing the species' survival.

Permit No. TE-43675A

Applicant: Nancy W. Fox-Hernandez, Ventura, California.

The applicant requests an amendment to a permit to take (locate and monitor nests) the California least tern (Sterna antillarum browni) in conjunction with population monitoring activities throughout the range of the species in California for the purpose of enhancing the species' survival.

Permit No. TE-43944A

Applicant: Brenton T. Spies, Northridge, California.

The applicant requests a permit to take (survey, capture, handle, kill, and release) the tidewater goby (Eucyclogobius newberryi) in conjunction with research activities throughout the range of the species in California for the purpose of enhancing the species' survival.

Permit No. TE-44855A

Applicant: Clint M. Scheuerman, Encinitas, California.

The applicant requests a permit to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with survey activities throughout the range of each species in California for the purpose of enhancing the species' survival.

Permit No. TE-039305

Applicant: Ursula A. Carliss, Laguna Niguel, California.

The applicant requests a permit to take (harass by survey) the southwestern willow flycatcher (Empidonax traillii extimus) and least Bell's vireo (Vireo bellii pusillus) in conjunction with surveys throughout the range of the species in California for the purpose of enhancing the species' survival.

Permit No. TE-795930

Applicant: Helm Biological Consulting, Sheridan, California.

The applicant requests a permit to take (collect soil containing federally listed fairy shrimp cysts, translocate, and inoculate cysts into restored vernal pools) the vernal pool tadpole shrimp (Lepidurus packardi) in conjunction with vernal pool restoration and population enhancement activities at the Sacramento Municipal Utility District Nature Preserve Mitigation Bank in Sacramento County, California, for the purpose of enhancing the species' survival.

Permit No. TE-45776A

Applicant: Matt P. Coyle, Rocklin, California.

The applicant requests a permit to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with survey activities throughout the range of each species in California for the purpose of enhancing the species' survival.

Permit No. TE-009018

Applicant: Rancho Santa Ana Botanic Garden, Claremont, California.

The applicant requests a permit to remove/reduce to possession the following species, in conjunction with surveys and population monitoring activities on Federal lands throughout the range of each species in California for the purpose of enhancing each species' survival:

Acanthomintha obovata subsp. duttonii (San Mateo thornmint);

Alopecurus aequalis var. sonomensis (Sonoma alopecurus);

Amsinckia grandiflora (large-flowered fiddleneck);

Arabis mcdonaldiana (McDonald's rock-cress);

Arctostaphylos hookeri var. ravenii (Presidio manzanita);

Astragalus claranus (Clara Hunt's milk-vetch);

Blennosperma bakeri (Sonoma sunshine);

Callitropsis abramsiana (Santa Cruz cypress);

Calystegia stebbinsii (Stebbins' morning-glory);

Carex albida (white sedge);

Castilleja affinis subsp. neglecta (Tiburon paintbrush);

Ceanothus ferrisiae (coyote ceanothus);

Ceanothus ophiochilus (Vail Lake ceanothus);

Ceanothus roderickii (Pine Hill ceanothus);

Chorizanthe howellii (Howell's spineflower);

Chorizanthe pungens var. hartwegiana (Ben Lomond spineflower);

Chorizanthe robusta (incl. vars. robusta and hartwegii) (robust spineflower and Scott Valley spineflower);

Chorizanthe valida (Sonoma spineflower);

Cirsium fontinale var. fontinale (fountain thistle);

Cirsium fontinale var. obispoense (Chorro Creek bog thistle);

Cirsium hydrophilum var. hydrophilum (Suisun thistle);

Cirsium loncholepis (La Graciosa thistle);

Clarkia franciscana (Presidio clarkia);

Clarkia imbricata (Vine Hill clarkia);

Clarkia speciosa subsp. immaculata (Pismo clarkia);

Cordylanthus mollis subsp. mollis (soft bird's-beak);

Cordylanthus palmatus (palmate-bracted bird's beak);

Cordylanthus tenuis subsp. capillaris (Pennell's bird's-beak);

Delphinium bakeri (Baker's larkspur);

Delphinium luteum (yellow larkspur);

Dudleya setchellii (Santa Clara Valley dudleya);

Eremalche kernensis (Kern mallow);

Eriodictyon altissimum (Indian Knob mountain balm);

Eriogonum apricum (incl. var. prostratum) (Ione (incl. Irish Hill) buckwheat);

Eriophyllum latilobum (San Mateo woolly sunflower);

Eryngium constancei (Loch Lomond coyote thistle);

Erysimum capitatum var. angustatum (Contra Costa wallflower);

Erysimum menziesii (Menzies' wallflower);

Erysimum teretifolium (Ben Lomond wallflower);

Fremontodendron californicum subsp. decumbens (Pine Hill flannelbush);

Galium californicum subsp. sierrae (El Dorado bedstraw);

Gilia tenuiflora subsp. arenaria (Monterey gilia);

Lasthenia burkei (Burke's goldfields);

Lessingia germanorum (=L.g. var. germanorum) (San Francisco lessingia);

Lilium occidentale (Western lily);

Lilium pardalinum subsp. pitkinense (Pitkin Marsh lily);

Limnanthes floccosa subsp. californica (Butte County meadowfoam);

Limnanthes vinculans (Sebastopol meadowfoam);

Lupinus nipomensis (Nipomo Mesa lupine);

Lupinus tidestromii (clover lupine);

Navarretia leucocephala subsp. pauciflora (=N. pauciflora) (few-flowered navarretia);

Navarretia leucocephala subsp. plieantha (many-flowered navarretia);

Oenothera deltoides subsp. howellii (Antioch Dunes evening-primrose);

Opuntia basilaris var. treleasei (Bakersfield cactus);

Orcuttia pilosa (hairy orcutt grass);

Orcuttia viscida (Sacramento orcutt grass);

Parvisedum leiocarpum (Lake County stonecrop);

Pentachaeta bellidiflora (white-rayed pentachaeta);

Phlox hirsuta (Yreka phlox);

Piperia yadonii (Yadon's piperia);

Plagiobothrys strictus (Calistoga allocarya);

Poa napensis (Napa bluegrass);

Polygonum hickmanii (Scotts Valley polygonum);

Potentilla hickmanii (Hickman's potentilla);

Pseudobahia bahiifolia (Hartweg's golden sunburst);

Sidalcea keckii (Keck's checker-mallow);

Sidalcea oregana subsp. valida (Kenwood Marsh checker-mallow);

Streptanthus albidus subsp. albidus (Metcalf Canyon jewelflower);

Streptanthus niger (Tiburon jewelflower);

Suaeda californica (California seablite);

Thlaspi californicum (Kneeland Prairie penny-cress);

Trifolium amoenum (showy Indian clover);

Trifolium trichocalyx (Monterey clover);

Tuctoria greenei (Greene's tuctoria);

Tuctoria mucronata (Solano grass).

Permit No. TE-45778A

Applicant: Ellis Ecological Services Incorporated, Estacada, Oregon.

The applicant requests a permit to take (survey, electrofish, measure, collect, handle, and release) the Lost River sucker (Deltistes luxatus) and the shortnose sucker (Chasmistes brevirostris) in conjunction with surveys and population monitoring at Kingsley Field Air National Guard Base, Klamath County, Oregon, for the purpose of enhancing the species' survival.

Public Comments

We invite public review and comment on each of these recovery permit applications. Comments and materials we receive will be available for public inspection, by appointment, during normal business hours at the address listed in the ADDRESSES section of this notice.

Before including your address, phone number, e-mail address, or other personal identifying information in your comment, you should be aware that your entire comment—including your personal identifying information—may be made publicly available at any time. While you can ask us in your comment to withhold your personal identifying information from public review, we cannot guarantee that we will be able to do so.

Larry Rabin,
Regional Director, Region 8, Sacramento, California.

[FR Doc. 2011-16993 Filed 7-6-11; 8:45 am]

BILLING CODE 4310-55-P